DEPARTMENT OF COMMERCE

National Oceanic and Atmospheric Administration

2006 Record of Decision (ROD) on the Canaan Valley Institute (CVI) Office Complex Final Environmental Impact Statement (FEIS)

AGENCY: Office of Oceanic and Atmospheric Research (OAR), National Oceanic and Atmospheric Administration (NOAA), Department of Commerce (DOC).

ACTION: Notice; Record of Decision.

SUMMARY: NOAA is issuing this notice to advise the public that an ROD has been approved and issued for the CVI Office Complex FEIS. NOAA signed the ROD on June 1, 2006.

ADDRESSES: Requests for copies of the ROD may be directed to Mr. Jim Rawson of the CVI at 800.922.3601. The ROD is available for public review (upon request) at the CVI, Buxton and Landstreet Building, Douglas Road, Thomas, WV 26292. Arrangements to review this information during, as well as outside of standard business hours, may be made by contacting Mr. Jim Rawson of the CVI at the number listed above.

FOR FURTHER INFORMATION CONTACT: Requests for further information concerning the FEIS or the ROD may be directed to Mr. Jim Rawson of the CVI at 800.922.3601. Copies of the 2006 ROD were mailed directly to those persons who requested they be on the project mailing list and who provided comments on the FEIS.

SUPPLEMENTARY INFORMATION: The Selected Alternative for the CVI Office Complex is Alternative G and the Yellow Creek Site. This alternative was identified as the Recommended Preferred Alternative in the Draft Environmental Impact Statement (DEIS) and as the Selected Alternative in the FEIS. The proposed project is the construction of a new facility that would consist of offices, classrooms, laboratories, a 250-seat auditorium, parking facilities, outdoor classrooms, and interpretive areas. As part of the project, a roadway will be constructed to access the facility from a major highway. The physical footprint of the facility complex will require approximately 4 acres of earth disturbance. The access roadway construction would disturb approximately 5 acres. The facility will be “zero discharge”, incorporating Clivus Multrum, Inc. composting (http://www.clivusmultrum.com/compostingtoilet.html) and living machine/drip irrigation systems to treat waste and waste water. Natural gas turbines will be the primary electricity source. Natural gas will be purchased from local producers. Rainwater will be collected through a series of cisterns and used for non-potable uses such as irrigation. Locally obtained building materials will be used when possible. Energy efficient materials and designs will be incorporated throughout the entire facility. Storm water discharge features will include vegetated swales, rain gardens, and “green” or vegetated roofs.

Based upon its ability to meet the identified project needs; upon engineering parameters, environmental effects, public input, and environmental resource agency input, Alternative G and the Yellow Creek Site is the environmentally preferable alternative and has been identified as the Selected Alternative in the FEIS.

Dated: June 7, 2006.
Sharon Schroeder,
Program Policy Division, Office of Oceanic and Atmospheric Research, National Oceanic and Atmospheric Administration.

[FR Doc. E6-9140 Filed 6-12-06; 8:45 am]

BILLING CODE 3510-22-P